DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of two individuals and four entities whose property and interests in property are blocked pursuant to Executive Order 13224 of September 23, 2001, “Blocking Property and Prohibiting Transactions With Persons Who Commit, Threaten To Commit, or Support Terrorism.”

DATES: OFAC's actions described in this notice are effective on November 5, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On November 5, 2015, OFAC blocked the property and interests in property of the following two individuals and four entities pursuant to E.O. 13224, “Blocking Property and Prohibiting Transactions With Persons Who Commit, Threaten To Commit, or Support Terrorism”:

Individuals

1. SERHAN, Fadi Hussein (a.k.a. SARHAN, Fadi Husayn; a.k.a. SIRHAN, Fadi), Own Building, Kanisat Marmkhael, Saliba Street, Corniche, Al-Mazraa, Beirut, Lebanon; Jaafar Building, Mazraa Street, Beirut, Lebanon; Jaafar Building, Mseytbi Street, Beirut, Lebanon; Jaafar Building, Salim Slam Street, Beirut, Lebanon; Jishi Building, Salim Slam Street, Beirut, Lebanon; Own Building, Main Street, Kfar Kila, Lebanon; DOB 01 Apr 1961; POB Kafr Kila, Lebanon; nationality Lebanon; Gender Male; Passport RL0962973 (Lebanon) (individual) [SDGT] (Linked To: HIZBALLAH).

2. CHERRI, Adel Mohamad (a.k.a. CHERRI, Adel Mohammad; a.k.a. SHIRRI, 'Adil), Suite 15A, Mingshang GE Shenganghao Yuan Building, Bao An Nan Road, Luohu District, Shenzhen, Guangdong, China; 1/F, Bei Fang Building, Shennan Zhong Road, Shenzhen, Guangdong, China; Flat/Room 1610, Nan Fung Tower, 173 Des Voeux Road Central, Hong Kong; Cherri Building, Main Street, Beer Al Salasel, Kherbet Selem, Nabatieh, Lebanon; DOB 03 Oct 1963; POB Beirut, Lebanon; Gender Male; Passport RL2566575 (Lebanon) expires 03 Jul 2018 (individual) [SDGT] (Linked To: HIZBALLAH).

Entities

3. VATECH SARL (a.k.a. VATECH; a.k.a. VATECH LEBANON; a.k.a. VATECH VIDEO AND PRO AUDIO), P.O. Box 14-5728, Jishi Building, Salim Slam Street, Mazraa, Beirut, Lebanon; P.O. Box 14-5728, Borj al Salam Building, Salim Slam Street, Beirut, Lebanon; Jaafar Building, Mazraa Street, Beirut, Lebanon; Jaafar Building, Moseitbi Street, Beirut, Lebanon; Jaafar Building, Salim Slam Street, Mazraa, Beirut, Lebanon; Jishi Building, Mazraa Street, Beirut, Lebanon; Web site www.vatech.com.lb [SDGT] (Linked To: SERHAN, Fadi Hussein).

4. LE-HUA ELECTRONIC FIELD CO. LIMITED (a.k.a. LE-HUA ELEC F CO. LTD), Room B, 5/F, Building 2, Guilong Jiayuan Gui Yuan North Road, Guiyuan Neighborhood St Office, Luohu District, Shenzhen, Guangdong, China; 15th Floor, Ming Shang Ge Building, Bao'an Street, Luo Hu Area, Shenzhen, Guangdong, China; Flat/Room 1610, Nan Fung Tower, 173 Des Voeux Road Central, Hong Kong [SDGT] (Linked To: CHERRI, Adel Mohamad).

5. AERO SKYONE CO. LIMITED (a.k.a. AERO SKY ONE LTD; a.k.a. AEROSKYONE CO. LTD), Tianhe Qu, Tianhe Bei Lu, 255 Hao, 1606 Fang, Guangzhou, China; Room 1501 (340), 15/F, SPA Center, 53-55 Lockhart Road, Wan Chai, Hong Kong; Room 1501 (340), Lockhart, Wan Chai, Hong Kong; Web site www.aerskyone.com [SDGT] (Linked To: ZEAITER, Ali).

6. LABICO SAL OFFSHORE (a.k.a. LABICO SAL (OFF SHORE)), Bou Ghannam Building, Azhar Street, Kobbe Doha, Aramoun, Aaley, Lebanon; Labico Building, Azhar Street, Aramoun, Aaley, Lebanon [SDGT] (Linked To: ZEAITER, Ali).

Dated: November 5, 2015.
John E. Smith,
Acting Director, Office of Foreign Assets Control.

[FR Doc. 2015-28702 Filed 11-10-15; 8:45 am]

BILLING CODE 4810-AL-P